DEPARTMENT OF AGRICULTURE

Agricultural Marketing Service

[Doc. No. AMS-LPS-17-0008]

Request for Extension and Revision of a Currently Approved Information Collection

AGENCY: Agricultural Marketing Service, USDA.

ACTION: Notice; request for comments.

SUMMARY: In accordance with the Paperwork Reduction Act of 1995, this notice announces the U.S. Department of Agriculture (USDA) Agricultural Marketing Service's (AMS) intent to request approval from the Office of Management and Budget (OMB) for an extension of and revision to the currently approved information collection used in support of the voluntary grading and certification of poultry products, rabbit products, shell eggs, meat, meat products, and Quality Systems Verification Programs (OMB 0581-0128).

DATES: Submit comments on or before May 8, 2017.

ADDRESSES: Interested persons are invited to submit comments concerning this notice by using the electronic process available at www.regulations.gov. Written comments may also be submitted to Quality Assessment Division; Livestock, Poultry, and Seed Program; Agricultural Marketing Service, USDA; 1400 Independence Avenue SW.; Room 3932-S, Stop 0258; Washington, DC 20250-0258; or by facsimile to (202) 690-2746. All comments should reference the docket number AMS-LPS-17-0008, the date of submission, and the page number of this issue of the Federal Register. All comments received will be posted without change, including any personal information provided, and will be made available for public inspection at the above physical address during regular business hours.

FOR FURTHER INFORMATION CONTACT: Michelle Degenhart, Assistant to the Director, Quality Assessment Division, at (202) 260-8417, or email michelle.degenhart@ams.usda.gov.

SUPPLEMENTARY INFORMATION:

Overview of This Information Collection

(1) Agency: USDA, AMS.

(2) Title: Regulations for Voluntary Grading, Certification, and Standards—7 CFR 54, 56, 62, and 70.

(3) OMB Number: 0581-0128.

(4) Expiration Date of Approval: July 31, 2017.

(5) Type of Request: Request for extension of and revision of a currently approved information collection.

(6) Abstract: The Agricultural Marketing Act of 1946 (AMA) (7 U.S.C. 1621-1627) directs and authorizes the USDA to develop and improve standards of quality, grades, grading programs, and certification services which facilitate the marketing of agricultural products. To provide programs and services, section 203(h) of the AMA (7 U.S.C. 1622(h)) directs and authorizes the Secretary of Agriculture to inspect, certify, and identify the class, quality, quantity, and condition of agricultural products under such rules and regulations as the Secretary may prescribe, including assessment and collection of fees for the cost of service. The regulations in 7 CFR 54, 56, and 70 provide a voluntary program for grading, certification and standards of shell eggs, poultry products, rabbit products, meats, prepared meats, and meat products. The regulation in 7 CFR 62—Quality Systems Verification Programs (QSVP) is a collection of voluntary, audit-based, user-fee funded programs that allow applicants to have program documentation and program processes assessed by AMS auditor(s) and other USDA officials.

AMS also provides other types of voluntary services under these regulations, including contract and specification acceptance services and verification of product, processing, further processing, temperature, and quantity. Because this is a voluntary program, respondents request or apply for the specific service they wish, and in doing so, they provide information. The information collected is used only by authorized representatives of USDA (AMS, Livestock, Poultry, and Seed Program's QAD national and field staff, which includes state agencies) and is used to conduct services requested by respondents. Information collected includes but is not limited to: Total received volume in pounds or cases, volume in pounds of graded, processed and reprocessed products, case volume of graded product, applicant's name, billing and facility address, commitment hours, and requests for approval of commodity specifications or chemical compounds. AMS is the primary user of the information.

The information collection requirements in this request are essential to carry out the intent of AMA, to provide the respondents the type of service they request, and to administer the program.

(7) Estimate of Burden: Public reporting burden for this collection of information is estimated to average 0.197 hours per response.

(8) Respondents: Livestock, meat, poultry, shell egg industries, or other agricultural enterprises; state or local governments; or other business organizations.

(9) Estimated Number of Respondents: 1,564.

(10) Estimated Number of Responses per Respondent: 34.47.

(11) Estimated Total Annual Responses: 53,915.

(12) Estimated Total Annual Burden on Respondents: 10,655.63 hours.

Comments are invited on: (1) Whether the proposed collection of information is necessary for the proper performance of the functions of AMS, including whether the information will have practical utility; (2) the accuracy of AMS' estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All responses will become a matter of public record, including any personal information provided.

Dated: March 6, 2017.
Bruce Summers,
Acting Administrator, Agricultural Marketing Service.

[FR Doc. 2017-04667 Filed 3-8-17; 8:45 am]

BILLING CODE 3410-02-P